DEPARTMENT OF DEFENSE

Office of the Secretary

Judicial Proceedings Since Fiscal Year 2012 Amendments Panel (Judicial Proceedings Panel); Notice of Federal Advisory Committee Meeting

AGENCY: Department of Defense.

ACTION: Notice of meeting.

SUMMARY: The Department of Defense is publishing this notice to announce the following Federal Advisory Committee meeting of the Judicial Proceedings since Fiscal Year 2012 Amendments Panel (“the Judicial Proceedings Panel” or “the Panel”). The meeting is open to the public.

DATES: A meeting of the Judicial Proceedings Panel will be held on Tuesday, May 19, 2015. The Public Session will begin at 8:30 a.m. and end at 5:00 p.m.

ADDRESSES: U.S. District Court for the District of Columbia, 333 Constitution Avenue NW., Courtroom #20, 6th Floor, Washington, DC 20001.

FOR FURTHER INFORMATION CONTACT: Ms. Julie Carson, Judicial Proceedings Panel, One Liberty Center, 875 N. Randolph Street, Suite 150, Arlington, VA 22203. Email: whs.pentagon.em.mbx.judicial-panel@mail.mil Phone: (703) 693-3849. Web site: http://jpp.whs.mil.

SUPPLEMENTARY INFORMATION: Due to circumstances beyond the control of the Designated Federal Officer and the Department of Defense, the Judicial Proceedings since Fiscal Year 2012 Amendments Panel (“the Judicial Proceedings Panel”) was unable to provide public notification of its meeting of May 19, 2015, as required by 41 CFR 102-3.150(a). Accordingly, the Advisory Committee Management Officer for the Department of Defense, pursuant to 41 CFR 102-3.150(b), waives the 15-calendar day notification requirement.

This public meeting is being held under the provisions of the Federal Advisory Committee Act of 1972 (5 U.S.C., Appendix, as amended), the Government in the Sunshine Act of 1976 (5 U.S.C. 552b, as amended), and 41 CFR 102-3.150.

Purpose of the Meeting: In section 576(a)(2) of the National Defense Authorization Act for Fiscal Year 2013 (Pub. L. 112-239), as amended, Congress tasked the Judicial Proceedings Panel to conduct an independent review and assessment of judicial proceedings conducted under the Uniform Code of Military Justice involving adult sexual assault and related offenses since the amendments made to the Uniform Code of Military Justice by section 541 of the National Defense Authorization Act for Fiscal Year 2012 (Pub. L. 112-81; 125 Stat. 1404), for the purpose of developing recommendations for improvements to such proceedings. At this meeting, the Panel will consider the issues of social and professional retaliation against individuals who report incidents of sexual assault within the military, in order to develop recommendations for improving the military's prevention and response to retaliation. The Panel is interested in written and oral comments from the public, including non-governmental organizations, relevant to these issues or any of the Panel's tasks.

Agenda

• 8:00 a.m.-8:30 a.m. Administrative Session (41 CFR 102-3.160, not subject to notice & open meeting requirements)

• 8:30 a.m.-9:45 a.m. Human Rights Watch Report and Recommendations (public meeting begins)

—Speakers: Human Rights Watch Senior Counsel and survivors

• 9:45 a.m.-10:30 a.m. Ms. Susan Burke & Client Perspectives on Retaliation and Social Ostracism

—Speakers: Ms. Susan Burke and survivor clients

• 10:30 a.m.-10:40 a.m. Break

• 10:40 a.m.-12:15 p.m. Victim Perspectives on Retaliation and Social Ostracism: Military Survivor Experiences

—Speakers: Survivors of Military Sexual Assault

• 12:15 p.m.-1:00 p.m. Lunch

• 1:00 p.m.-2:00 p.m. Fear of Retaliation & Impact on Reporting: SARC and VA Perspectives

—Speakers: Sexual Assault Response Coordinators and Victim Advocates from the Military Services

• 2:00 p.m.-3:00 p.m. Preventing and Responding to Retaliation and Social Ostracism

—Speakers: Senior Noncommissioned Officers from the Military Services

• 3:00 p.m.-3:10 p.m. Break

• 3:10 p.m.-4:45 p.m. Roles and Responsibilities Regarding Retaliation: Perspectives from Installation Level Commanders

—Speakers: Installation-Level Commanders

• 4:45 p.m.-5:00 p.m. Public Comment

Availability of Materials for the Meeting: A copy of the May 19, 2015 meeting agenda or any updates to the agenda, to include individual speakers not identified at the time of this notice, as well as other materials presented related to the meeting, may be obtained at the meeting or from the Panel's Web site at http://jpp.whs.mil.

Public's Accessibility to the Meeting: Pursuant to 5 U.S.C. 552b and 41 CFR 102-3.140 through 102-3.165, and the availability of space, this meeting is open to the public. Seating is limited and is on a first-come basis.

Special Accommodations: Individuals requiring special accommodations to access the public meeting should contact Ms. Julie Carson at whs.pentagon.em.mbx.judicial-panel@mail.mil at least five (5) business days prior to the meeting so that appropriate arrangements can be made.

Procedures for Providing Public Comments: Pursuant to 41 CFR 102-3.140 and section 10(a)(3) of the Federal Advisory Committee Act of 1972, the public or interested organizations may submit written comments to the Panel about its mission and topics pertaining to this public session. Written comments must be received by Ms. Julie Carson at least five (5) business days prior to the meeting date so that they may be made available to the Judicial Proceedings Panel for their consideration prior to the meeting. Written comments should be submitted via email to Ms. Carson at whs.pentagon.em.mbx.judicial-panel@mail.mil in the following formats: Adobe Acrobat or Microsoft Word. Please note that since the Judicial Proceedings Panel operates under the provisions of the Federal Advisory Committee Act, as amended, all written comments will be treated as public documents and will be made available for public inspection. If members of the public are interested in making an oral statement, a written statement must be submitted along with a request to provide an oral statement. Oral presentations by members of the public will be permitted between 4:45 p.m. and 5:00 p.m. on May 19, 2015 in front of the Panel. The number of oral presentations to be made will depend on the number of requests received from members of the public on a first-come basis. After reviewing the requests for oral presentation, the Chairperson and the Designated Federal Officer will, having determined the statement to be relevant to the Panel's mission, allot five minutes to persons desiring to make an oral presentation.

Committee's Designated Federal Officer: The Panel's Designated Federal Officer is Ms. Maria Fried, Judicial Proceedings Panel, 1600 Defense Pentagon, Room 3B747, Washington, DC 20301-1600.

Dated: May 5, 2015.
Aaron Siegel,
Alternate OSD Federal Register Liaison Officer, Department of Defense.

[FR Doc. 2015-11205 Filed 5-7-15; 8:45 am]

BILLING CODE 5001-06-P